DEPARTMENT OF ENERGY

Federal Energy Regulatory Commission

[ER13-1922-000; ER13-1929-000; ER13-1932-000; NJ13-11-000]

Duke Energy Florida, Inc.; Florida Power & Light Company; Tampa Electric Company; Orlando Utilities Commission; Notice of Compliance Filings

Take notice that on July 10, 2013, Duke Energy Florida, Inc., Florida Power & Light Company, Tampa Electric Company, and Orlando Utilities Commission, submitted filings to comply with the requirements of Order No. 1000 Interregional Compliance.¹

¹ Transmission Planning and Cost Allocation by Transmission Owning and Operating Public Utilities, 136 FERC ¶ 61,051 (2011), order on reh'g and clarification, 139 FERC ¶ 61,132 (2012) (Order No. 1000-A), order on reh'g and clarification, 141 FERC ¶ 61,044 (2012) (Order No. 1000-B) (Order Nos. 1000, 1000-A, and 1000-B collectively referred to as Order No. 1000, Order, or Final Rule).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 26, 2013.

Dated: July 12, 2013.
Kimberly D. Bose,
Secretary.

[FR Doc. 2013-17285 Filed 7-18-13; 8:45 am]

BILLING CODE 6717-01-P